DEPARTMENT OF LABOR

Mine Safety and Health Administration

Petitions for Modification

AGENCY: Mine Safety and Health Administration, Labor.

ACTION: Notice of petitions for modification of existing mandatory safety standards.

SUMMARY: Section 101(c) of the Federal Mine Safety and Health Act of 1977 and 30 CFR Part 44 govern the application, processing, and disposition of petitions for modification. This notice is a summary of petitions for modification filed by the parties listed below to modify the application of existing mandatory safety standards published in Title 30 of the Code of Federal Regulations.

DATES: All comments on the petitions must be received by the Office of Standards, Regulations and Variances on or before January 20, 2010.

ADDRESSES: You may submit your comments, identified by “docket number” on the subject line, by any of the following methods:

1. Electronic Mail: Standards-Petitions@dol.gov.

2. Facsimile: 1-202-693-9441.

3. Regular Mail: MSHA, Office of Standards, Regulations and Variances, 1100 Wilson Boulevard, Room 2350, Arlington, Virginia 22209, Attention: Patricia W. Silvey, Director, Office of Standards, Regulations and Variances.

4. Hand-Delivery or Courier: MSHA, Office of Standards, Regulations and Variances, 1100 Wilson Boulevard, Room 2350, Arlington, Virginia 22209, Attention: Patricia W. Silvey, Director, Office of Standards, Regulations and Variances.

MSHA will consider only comments postmarked by the U.S. Postal Service or proof of delivery from another delivery service such as UPS or Federal Express on or before the deadline for comments. Individuals who submit comments by hand-delivery are required to check in at the receptionist desk on the 21st floor.

Individuals may inspect copies of the petitions and comments during normal business hours at the address listed above.

FOR FURTHER INFORMATION CONTACT: Barbara Barron, Office of Standards, Regulations and Variances at 202-693-9447 (Voice), barron.barbara@dol.gov (E-mail), or 202-693-9441 (Telefax). [These are not toll-free numbers].

SUPPLEMENTARY INFORMATION:

I. Background

Section 101(c) of the Federal Mine Safety and Health Act of 1977 (Mine Act) allows the mine operator or representative of miners to file a petition to modify the application of any mandatory safety standard to a coal or other mine if the Secretary determines that: (1) An alternative method of achieving the result of such standard exists which will at all times guarantee no less than the same measure of protection afforded the miners of such mine by such standard; or (2) that the application of such standard to such mine will result in a diminution of safety to the miners in such mine. In addition, the regulations at 30 CFR 44.10 and 44.11 establish the requirements and procedures for filing petitions for modification.

II. Petitions for Modification

Docket Number: M-2009-020-C.

Petitioner: Consolidation Coal Company, 1800 Washington Road, Pittsburgh, Pennsylvania 15241.

Mine: Blacksville No. 2 Mine, MSHA I.D. No. 46-01968, located in Monongalia County, West Virginia.

Regulation Affected: 30 CFR 75.1700 (Oil and gas wells).

Modification Request: The petitioner requests a modification of the existing standard to permit an alternative method of compliance with respect to vertical Coal Bed Methane (CBM) degasification wells with horizontal laterals into the underground coal seam. The petitioner proposes to plug vertically drilled CBM degasification wells in order to mine through them. The petitioner states that: (1) Prior to the anticipated mine through, the borehole will be filled with cementatious grout, polyurethane grout, silica gel, flexible gel, or another material approved by the District Manager; (2) a packer with a one-way check valve, will be installed at a location in the borehole to ensure that an appropriate amount of the borehole is filled with the plugging material, and any water present in the borehole will be tested for chlorides prior to plugging; (3) a directional deviation survey completed during the drilling of the borehole will be used to determine the location of the borehole within the coal seam; (4) where suitable plugging procedures have not yet been developed or are impractical, water infusion and ventilation of vertical CBM wells with horizontal laterals may be used in lieu of plugging; (5) when mining through a CBM degasification well with horizontal laterals, the operator will notify the District Manager or designee prior to mining within 300 feet of the well, and when a specific plan is developed for mining through each well; (6) when using the continuous mining method, drivage sights will be installed at the last open crosscut near the place to be mined to ensure intersection of the well. The drivage sights will not be more than 250 feet from the well. When using the longwall mining method, drivage sights will be installed on 10-foot centers, 50 feet in advance of the initial anticipated intersection of the well, in both the headgate and tailgate entry; (7) firefighting equipment, including fire extinguishers, rock dust, and enough fire hose to reach the well location on the working face will be available near the working place; (8) sufficient supplies of roof support and ventilation materials will be available near the working place; (9) the quantity of air required by the approved ventilation system and methane and dust control plan, will be used to ventilate the working face, or the longwall face during the mining through operation; (10) equipment will be checked for permissibility and serviced on the shift, and the methane monitor on the longwall or continuous mining machine will be calibrated on the shift, prior to mining through the well; (11) tests for methane will be made with a hand-held methane detector when mining is in progress, at least every 10 minutes from the time mining with the continuous mining machine is within 30 feet of the well until the well is intersected and immediately prior to mining through or the resumption of mining after a well is intersected. When mining with longwall equipment, the tests for methane will be made at least every 10 minutes when the longwall face is within 10 feet of the well; (12) when using continuous mining methods, the working place will be free from accumulations of coal dust and coal spillages and rock dust will be placed on the roof and rib, within 20 feet of the face when mining through the well; (13) all equipment will be de-energized when the well is intersected and the place will be thoroughly examined and determined safe before mining resumes. Any well casing will be removed and no open flame will be permitted in the area until adequate ventilation has been established around the wellbore; (14) after the well has been intersected and the working place determined safe, mining will continue inby the well at a sufficient distance to permit adequate ventilation around the area of the wellbore; (15) only persons engaged in the operation will be permitted in the area of the mining through operation, inby the last open crosscut, such as company personnel, representatives of miners, MSHA personnel and personnel from the appropriate State agency. The mining through operation will be under the direct supervision of a certified official and only the certified official will issue instructions concerning the mining through operation; and (16) for the safety of the miners, MSHA personnel may interrupt or halt the mining through operation when necessary. Persons may review a complete description of the petitioner's alternative method and procedures at the MSHA address listed in this notice. The petitioner asserts that the proposed alternative method will at all times guarantee no less than the same measure of protection to all miners at the Blacksville No. 2 Mine as would be provided by the existing standard.

Docket Number: M-2009-022-C.

Petitioner: RFI Energy, Inc., 4740 Corridor Place, Suite D, Beltsville, Maryland.

Mine: RFI Strip & Tipple, MSHA I.D. No. 36-08763, located in Clarion County, Pennsylvania.

Regulation Affected: 30 CFR 77.1301(f) (Explosives and blasting).

Modification Request: The petitioner requests a modification of the existing standard to permit its explosives storage magazines to be maintained off-site in their current location, closer than 25 feet to each other, provided that the total contents of both magazines do not exceed the maximum weight for explosives set forth in the US Bureau of Alcohol, Tobacco & Firearms (BATF) Table of Distances. The petitioner states that: (1) The current configuration was previously approved by the BATF and is consistent with the terms of the permit issued to RFI Energy for these magazines by the State of Pennsylvania; (2) to reconfigure the magazines and move one magazine outside the existing enclosed structure would impose prohibitive expense without any commensurate safety improvements, and would place RFI Energy in violation of its existing BATF and Pennsylvania permits for explosives storage; (3) it would be unduly burdensome to relocate the magazines because of the requirements RFI Energy must meet to conform to BATF, and Pennsylvania Department of Homeland Security, as well as MSHA's acceptance of this storage practice during previous inspections conducted by the Agency on behalf of BATF; and (4) in light of the small amounts of explosives regularly stored in the magazines, the lack of the magazines' proximity to roadways, housing, or human traffic, full compliance with a Federal agency (BATF) that has primary jurisdiction over explosives storage requirements, and the rules promulgated and permits granted to RFI Energy by the Pennsylvania Department of Homeland Security for explosives storage, RFI Energy should not be required to expend prodigious amounts of money, time, or physical effort and to violate its existing explosives permits in order to comply with MSHA's explosives storage regulations which, according to the most recent MSHA semi-annual regulatory agenda are slated for revision to harmonize more appropriately with those regulations of the BATF. The petitioner further states that the alternative method provides equivalent or superior safety to the application of the standard, is already in compliance with BATF and the Pennsylvania Department of Homeland Security, and MSHA has acknowledged in the pending citation that it is unlikely that any injuries would occur given the current scenario.

Dated: December 15, 2009.
Patricia W. Silvey,
Director, Office of Standards, Regulations and Variances.

[FR Doc. E9-30157 Filed 12-18-09; 8:45 am]

BILLING CODE 4510-43-P